DEPARTMENT OF AGRICULTURE

DEPARTMENT OF HOMELAND SECURITY

Science and Technology Directorate; Notice of Availability of the Final Environmental Impact Statement for the Proposed National Bio and Agro-Defense Facility

AGENCY: Science and Technology Directorate (Office of National Laboratories within the Office of Research), DHS; Department of Agriculture (USDA).

ACTION: Notice of availability.

SUMMARY: The U.S. Department of Homeland Security (DHS) announces the availability of its National Bio and Agro-Defense Facility Final Environmental Impact Statement (NBAF Final EIS). This announcement is pursuant to the National Environmental Policy Act of 1969 (NEPA), as amended, and its implementing regulations at 40 CFR parts 1500-1508. The Proposed Action to site, construct, and operate the National Bio and Agro-Defense Facility (NBAF) would allow researchers to develop tests to detect foreign animal diseases and zoonotic diseases (transmitted from animals to humans) and develop vaccines (or other countermeasures such as antiviral therapies) to protect agriculture and food systems in the United States. The NBAF would enhance U.S. biodefense capabilities with modern and integrated high-security (biosafety levels 3 and 4) facilities that would ensure U.S. vulnerabilities and risks from agro-terrorism are safely addressed. DHS anticipates that the proposed NBAF would focus biosafety level 3 agricultural (BSL-3Ag) research on African swine fever, classical swine fever, contagious bovine pleuropneumonia, foot and mouth disease, Japanese encephalitis, and Rift Valley fever; BSL-4 research would address Hendra and Nipah viruses.

DATES: DHS will consider comments on the NBAF Final EIS, received by January 12, 2009, to determine whether they identify new information relevant to environmental concerns bearing upon the Preferred Alternative.

ADDRESSES: The NBAF Final EIS, which includes the Executive Summary and the Comment Response Document, is available online at http://www.dhs.gov/nbaf and in designated reading rooms (see SUPPLEMENTARY INFORMATION). Compact disks and paper copies are available upon written request via e-mail or U.S. mail. Submit written comments on the NBAF Final EIS to nbafprogrammanager@dhs.gov or via mail: NBAF Program Manager; P.O. Box 2188; Germantown, MD 20875-2188. Individual names and addresses (including e-mail addresses) received as part of comment documents on the NBAF Final EIS will be part of the public record and subject to disclosure. Any person wishing to have his/her name, address, or other identifying information withheld from public release must state this request in the comment document. DHS will consider all comments received before the Record of Decision is signed.

FOR FURTHER INFORMATION CONTACT: Questions regarding the NBAF Final EIS should be directed to James V. Johnson DHS; Science and Technology Directorate; Mail Stop #2100; 245 Murray Lane, SW.; Building 410; Washington, DC 20528-0300 or e-mail to nbafprogrammanager@dhs.gov.

SUPPLEMENTARY INFORMATION: DHS is responsible for detecting, preventing, protecting against, and responding to terrorist attacks within the United States. These responsibilities, as applied to the defense of animal agriculture, are shared with the U.S. Department of Agriculture (USDA). In developing a coordinated strategy to adequately protect the nation against biological threats to animal agriculture, DHS and USDA identified a gap that must be filled by an integrated research, development, test, and evaluation infrastructure for combating threats to U.S. agriculture. To bridge this gap and comply with Homeland Security Presidential Directive 9, Defense of United States Agriculture and Food, DHS proposed to build the integrated research, development, test, and evaluation facility called the National Bio and Agro-Defense Facility (NBAF).

In June 2008, DHS published the NBAF Draft EIS, which analyzed the environmental impacts of the Proposed Action on six site alternatives, as well as the No Action Alternative. The site alternatives include: (1) South Milledge Avenue Site, Athens, Georgia; (2) Manhattan Campus Site, Manhattan, Kansas; (3) Flora Industrial Park Site, Flora, Mississippi; (4) Plum Island Site, Plum Island, New York; (5) Umstead Research Farm Site, Butner, North Carolina; and (6) Texas Research Park Site, San Antonio, Texas. Under the No Action Alternative, the NBAF would not be constructed and DHS would continue to use the Plum Island Animal Disease Center with necessary investments in facility upgrades, replacements, and repairs so that it could continue to operate at its current capability level.

The EPA published the Notice of Availability of the NBAF Draft EIS on June 27, 2008 (73 FR 36540). During the 60-day public comment period, which concluded on August 25, 2008, DHS held 13 public meetings in the vicinity of the site alternatives and in Washington, DC to facilitate information exchange and to solicit comments on the NBAF Draft EIS.

DHS gave equal consideration to the approximately 5,400 identified comments collected via e-mail, mail, public meetings, and toll-free fax and telephone numbers during the public comment period. DHS's responses to comments are presented in Appendix H of the Final EIS. The NBAF Final EIS reflects changes based on the comments received, availability of new data, and correction of errors and omissions.

DHS anticipates distributing approximately 2,600 copies of the NBAF Final EIS and/or the Executive Summary to congressional members and committees; federal, state, and local agency and governmental representatives and elected officials; Native American representatives; special interest groups and non-governmental organizations; and individuals.

The DHS Preferred Alternative identified in the NBAF Final EIS is to build and operate the NBAF at the Manhattan Campus Site in Kansas.

The NBAF Final EIS analyzes the potential impacts of the Proposed Action on the physical, biological, and human environments at each of the six site alternatives, as well as the potential impacts of the No Action Alternative. This Final EIS is not a decision document. DHS and USDA, a consulting agency on this EIS, will also consider information from associated support documentation including: Threat and Risk Assessment, Site Cost Analysis, Site Characterization Study, Plum Island Facility Closure and Transition Cost Study, as well as prior analysis of the site alternatives against DHS's site selection evaluation criteria.

DHS will announce its decision on the Proposed Action in the Record of Decision (ROD) that identifies the alternatives considered, the decisions made, the environmentally preferable alternative, and the factors balanced by the Department in making the decision. The NBAF ROD will include: (1) The decision whether or not to build the NBAF; (2) if the decision is made to build the NBAF, where it will be built; (3) the site alternatives considered in the EIS; (4) whether all practicable means to avoid or minimize environmental impacts from the alternative selected have been adopted and, if not, why; (5) any monitoring and enforcement that would be necessary to offset unavoidable environmental impacts; and (6) relevant comments on the NBAF Final EIS. DHS will issue a ROD on the proposed action no sooner than 30 days after the NOA of the NBAF Final EIS is published in the Federal Register.

The NBAF Final EIS is available for review at the following reading rooms:

Georgia

University of Georgia Main Library, 320 South Jackson Street, Athens, GA 30602;

Oconee County Library, 1080 Experiment Station Road, Watkinsville, GA 30677.

Kansas

Manhattan Public Library, 629 Poytnz Avenue, Manhattan, KS 66502;

Hale Library, Kansas State University, Manhattan, KS 66506.

Mississippi

City of Flora Library, 144 Clark Street, Flora, MS 39071.

New York Site

Acton Public Library, 60 Old Boston Post Road, Old Saybrook, CT 06475;

Southold Free Library, 53705 Main Road, Southold, NY 11971.

North Carolina

Richard H. Thornton Library, 210 Main Street, Oxford, NC 27565-0339;

South Branch Library, 1547 South Campus Drive, Creedmoor, NC 27522.

Texas

Central Library, 600 Soledad, San Antonio, TX 78205.

Authority: 42 U.S.C. 4321-4347 (National Environmental Policy Act).

Dated: December 3, 2008.
Bruce Knight,
Under Secretary, Marketing and Regulatory Programs, USDA.
Jay M. Cohen,
Under Secretary, Science & Technology, DHS.

[FR Doc. E8-29142 Filed 12-11-08; 8:45 am]

BILLING CODE 4410-10-P